DEPARTMENT OF AGRICULTURE

Cooperative State Research, Education, and Extension Service

7 CFR Part 3430

RIN 0524-AA28

Competitive and Noncompetitive Non-formula Grant Programs—General Grant Administrative Provisions and Program-Specific Administrative Provisions for the Specialty Crop Research Initiative

AGENCY: Cooperative State Research, Education, and Extension Service, USDA.

ACTION: Interim Rule and request for comments.

SUMMARY: The Cooperative State Research, Education, and Extension Service (CSREES) is publishing one set of administrative requirements that contain elements common to all of the competitive and noncompetitive non-formula grant programs the Agency administers as an interim rule. Although this interim rule becomes effective on the date of publication, CSREES is requesting comments for a 60-day period as identified below. In a relatively short period of time, this will allow CSREES to apply basic rules to grant programs that are currently operating without them, including new non-formula grant programs created by the passage of the Food, Conservation, and Energy Act of 2008 (FCEA) (Pub. L. 110-234) and to efficiently implement changes to programs with existing regulations as required by FCEA. The provisions in subparts A through E will serve as a single Agency resource codifying current practices simply and coherently for almost all CSREES competitive and noncompetitive non-formula grant programs except the Small Business Innovation Research (SBIR) Program. As specific rules are developed for each CSREES grant program, CSREES will propose adding a subpart for that Federal assistance program to this regulation. This interim rule is being published with a first set of program-specific grant regulations as subpart F for the Specialty Research Crop Initiative, authorized under section 7311 of FCEA.

DATES: This interim rule is effective August 1, 2008. The Agency must receive comments on or before September 30, 2008.

ADDRESSES: You may submit comments, identified by RIN 0524-AA28, by any of the following methods:

Federal eRulemaking Portal: http://www.regulations.gov. Follow the instructions for submitting comments.

E-mail: RFP-OEP@reeusda.gov. Include Regulatory Information Number (RIN) number 0524-AA28 in the subject line of the message.

Fax: 202-401-7752.

Mail: Paper, disk or CD-ROM submissions should be submitted to Cooperative State Research, Education, and Extension Service, U.S. Department of Agriculture, STOP 2299, 1400 Independence Avenue, SW., Washington, DC 20250-2299.

Hand Delivery/Courier: Cooperative State Research, Education, and Extension Service, U.S. Department of Agriculture, Room 2258, Waterfront Centre, 800 9th Street, SW., Washington, DC 20024.

Instructions: All submissions received must include the agency name and the RIN for this rulemaking. All comments received will be posted without change to http://www.regulations.gov, including any personal information provided.

FOR FURTHER INFORMATION CONTACT: Erin Daly, Policy Section Leader, Office of Extramural Programs, Cooperative State Research, Education, and Extension Service, U.S. Department of Agriculture, STOP 2299, 1400 Independence Avenue, SW., Washington, DC 20250-2299; Voice: 202-401-3319; Fax: 202-401-7752; E-mail: edaly@csrees.usda.gov.

SUPPLEMENTARY INFORMATION:

I. Background and Summary

Authority

This rulemaking is authorized by section 1470 of the National Agricultural Research, Extension, and Teaching Policy Act of 1977 (NARETPA), as amended, Public Law 95-113 (7 U.S.C. 3101 et seq.). It furthers the streamlining and standardization efforts initiated by the Federal Financial Assistance Management Improvement Act of 1999, Public Law 106-107 (31 U.S.C. 6101 note) which sunset in November 2007, and is in accordance with the efforts of CSREES and the U.S. Department of Agriculture (USDA) to streamline and simplify the entire grants process while meeting the ever-increasing accountability and transparency standards.

Context

CSREES has published administrative provisions specific to some of the non-formula grant programs it administers. These provisions appear in Parts 3400, Special Research Grants Program; 3401, Rangeland Research Grants Program; 3402, Food and Agricultural Sciences National Needs Graduate and Postgraduate Fellowship Grants Program; 3405, Higher Education Challenge Grants Program; 3406, 1890 Institution Capacity Building Grants Program; 3411, National Research Initiative Competitive Grants Program; and 3415, Biotechnology Risk Assessment Research Grants Program of 7 CFR. This interim rule will not apply to the Small Business Research Innovation (SBIR) Program with implementing regulations codified at 7 CFR 3403. Where the interim administrative provisions conflict with existing regulations for CSREES administered non-formula grant programs, the existing regulations (i.e., 7 CFR parts 3400 through 3402, 3405, 3406, 3411, and 3415) for these programs will supersede until the regulation is cancelled or the subpart for that specific program is promulgated under this part.

Purpose

A primary function of CSREES is the fair, effective, and efficient administration of Federal assistance programs implementing agricultural research, education, and extension programs. The Agency's development and publication of regulations for its non-formula grant programs enhance its accountability and standardize procedures across the grant programs it administers while providing transparency to the public. More than thirty grant programs administered by CSREES are not currently governed by administrative provisions; and CSREES' existing administrative provisions fail to take advantage of basic similarities between non-formula grant programs and the Federal government-wide efforts to standardize and streamline the entire grant process from pre-award through closeout and post-award. The cumulative effect is duplicative, confusing language, contrary to the needs and demands of applicants and grantees for consistent and clear grant policies and procedures.

This rulemaking attempts to solve the problem by addressing the elements common to all of the competitive and noncompetitive grant programs CSREES administers. In this way, the Agency can apply basic rules to grant programs that are currently operating without them as well as quickly implement regulations for any new program. In addition, this rule will serve as a single resource, except for the SBIR and formula grant programs, that codifies current processes simply and coherently.

This interim rule will allow CSREES to finally document and codify the grant policies and business practices it sought to standardize and streamline in concert with other Federal grant-making agencies in response to various laws (including Pub. L. 106-107), regulations, and Presidential, Departmental, and Agency directives and initiatives. As of fiscal year 2008, CSREES publishes program solicitations or Requests For Applications (RFAs) in an Agency-wide template (incorporating the Federal government-wide requirements and standards) on the Grants.gov web site; accepts all applications (using the SF-424 form families) via Grants.gov; requires all competitive and noncompetitive non-formula programs to submit all progress and final technical reports via the Current Research Information System (CRIS); and as of July 1, 2008, implemented a more comprehensive and updated set of award terms and conditions that are consistent with other Federal grant-making agencies, yet address the unique needs of CSREES programs and USDA and CSREES business practices. These interim rules also address various issues related to audit findings and recommendations from the USDA Office of Inspector General (e.g., timely closeout of expired awards and restriction of grant funds 90 days after the expiration date). In response to Office of Management and Budget (OMB) Circular A-123 on Internal Controls, Improper Payment Information Act (IPIA), and other oversight and monitoring requirements, CSREES is seeking to clearly establish and implement monitoring and oversight procedures and systems to ensure that Federal assistance funds are being efficiently and effectively expended in accordance with program authorities and Federal assistance laws and regulations.

Alternatives

CSREES considered publishing separate rules for each uncovered grant program. However, this would defeat the purposes of recent laws, regulations, and Presidential, Departmental, and Agency initiatives to standardize and streamline the entire grant cycle. Furthermore, it would be a time consuming practice to draft and publish a final rule for each uncovered program. On the other hand, this interim rule provides clearer, more consistent and effective grant policies and procedures for the grantee which will contribute to more efficient and effective program delivery and potentially result in less audit findings and disallowed costs. The Agency expects this interim rule to contribute and facilitate more consistent processes across grant programs within CSREES and across USDA and the Federal government. By making better use of standard administrative provisions, CSREES also anticipates being able to publish clearer and more consistent RFAs within a shorter time frame and provide applicants, grantees, staff, and the public with one comprehensive set of administrative provisions.

Compliance

Once implemented, applicants who fail to comply with the new administrative provisions may not have their applications considered for funding by CSREES, may have their grant suspended or terminated, or may be billed for disallowed costs. This penalty provision can be enforced and is critical to CSREES' fair, effective, and efficient administration of grant programs. It is anticipated that having one set of administrative provisions codified in one part will assist applicants and grantees in understanding and complying with Federal assistance laws and regulations, as well as the intent of the authorizing regulation.

Organization

CSREES organized the regulation as follows: Subparts A through E provide administrative provisions for all competitive and noncompetitive non-formula grants. Subparts F and thereafter apply to specific CSREES programs and are organized in the following groups: Research programs (i.e., programs with a predominantly research focus), education and multicultural programs, extension programs, integrated programs (i.e., programs that statutorily require the integration of two or more components—research, education, or extension); and other programs. See section 3430.2 below for definitions (e.g., research, extension, and education).

CSREES is, to the extent practical, using the following subpart template for each program authority: (1) Applicability of regulations, (2) purpose, (3) eligibility, (4) definitions (those in addition to or different from 3430.2), (5) project types and priorities, (6) funding restrictions (including indirect costs), and (7) matching requirements. Subparts F and thereafter contain the above seven components in this order. Additional sections may be added for a specific program if there are additional requirements or a need for additional rules for the program (e.g., additional reporting requirements).

Subpart F—Specialty Crop Research Initiative

As stated above, this interim rulemaking includes the program-specific rules as subpart F for the Specialty Crop Research Initiative (SRCI) which is authorized under section 7311 of FCEA.

Through this program-specific regulation under subpart F, § 3430.202, CSREES is defining “integrated” and “specialty crop.” Subpart F also provides that individual applicants must be U.S. citizens or a national of the United States and excludes foreign or international organizations. Section 3430.204 provides that CSREES can develop and implement new activities and focus areas not identified in 3430.201 based on input provided by stakeholders and as determined by CSREES. Section 3430.205 states the specific program restrictions and clarifies the indirect cost policy for the SCRI Program. Section 3430.206 states the specific matching requirements for this program and that these matching requirements cannot be waived.

Timeline for Implementing Regulations

CSREES is publishing this rule as interim with a 60-day comment period and anticipates a final rule by March 1, 2009. However, in the interim, these regulations apply to all CSREES competitive and noncompetitive non-formula programs (except for the programs implemented by 7 CFR Part 3400, Special Research Grants Program; 7 CFR Part 3401, Rangeland Research Grants Program; 7 CFR Part 3402, Food and Agricultural Sciences National Needs Graduate and Postgraduate Fellowship Grants Program; 7 CFR Part 3405, Higher Education Challenge Grants Program; 7 CFR Part 3406, 1890 Institution Capacity Building Grants Program; 7 CFR Part 3411, National Research Initiative Competitive Grants Program; and 7 CFR Part 3415, Biotechnology Risk Assessment Research Grants Program) until the regulations for these programs (i.e., the individual subparts) are in effect or superseded by statute). As stated previously, this regulation will not apply to 7 CFR Part 3403, Small Business Innovation Research Grants Program. Within the next 18 months, CSREES plans to cancel some of the existing program-specific regulations identified in 7 CFR and incorporate these program-specific regulations as separate subparts under this part. In addition, CSREES is currently drafting a CSREES Grants Policy Manual, which while incorporating the regulations under this part, will provide more specific instructions, detailed explanations, and background for potential applicants, grantees, Agency and Departmental staff, and the public.

II. Administrative Requirements for the Proposed Rulemaking

Executive Order 12866

This action has been determined not significant for purposes of Executive Order 12866, and therefore, has not been reviewed by the Office of Management and Budget. This interim rule will not materially alter the budgetary impact of entitlements, grants, user fees, or loan programs; nor will it have an annual effect on the economy of $100 million or more; nor will it adversely affect the economy, a sector of the economy, productivity, competition, jobs, the environment, public health or safety, or State, local, or tribal governments or communities in a material way. Furthermore, it does not raise a novel legal or policy issue arising out of legal mandates, the President's priorities or principles set forth in the Executive Order.

Regulatory Flexibility Act of 1980

This interim rule has been reviewed in accordance with the Regulatory Flexibility Act of 1980, as amended by the Small Business Regulatory Enforcement Fairness Act of 1996, 5 U.S.C. 601-612. The Department concluded that the rule does not involve regulatory and informational requirements regarding businesses, organizations, and governmental jurisdictions subject to regulation.

Paperwork Reduction Act (PRA)

The Department certifies that this interim rule has been assessed in accordance with the requirements of the Paperwork Reduction Act, 44 U.S.C. 3501 et seq. (PRA). The Department concludes that this interim rule does not impose any new information requirements; however, the burden estimates will increase for existing approved information collections associated with this rule due to additional applicants. These estimates will be provided to OMB. In addition to the SF-424 form families (i.e., Research and Related and Mandatory), SF-272, Federal Cash Transactions Report, and SF-269, Financial Status Reports; CSREES has three currently approved OMB information collections associated with this rulemaking: OMB Information Collection No. 0524-0042, CSREES Current Research Information System (CRIS); No. 0524-0041, CSREES Application Review Process; and No. 0524-0026, Assurance of Compliance with the Department of Agriculture Regulations Assuring Civil Rights Compliance and Organizational Information.

Catalog of Federal Domestic Assistance

This interim regulation applies to the following Federal assistance programs administered by CSREES including 10.309, Specialty Crop Research Initiative.

The National Environmental Policy Act of 1969

The Department certifies this interim rule has been assessed in accordance with the requirements of the National Environmental Policy Act of 1969, 42 U.S.C. 4321 et seq. (NEPA). The Department concludes that the NEPA requirements do not apply to this rulemaking because this interim rule includes no provisions impacting the maintenance, preservation or enhancement of a healthful environment.

Federal Regulations and Policies on Families

The Department has reviewed this interim rule in accordance with the requirements of section 654 of the Treasury and general Government Appropriations Act of 1999, 5 U.S.C. 601 note. This interim regulation was not found to have a potential negative effect on family well-being as it is defined thereunder.

Executive Order 13045: Protection of Children From Environmental and Safety Risk

The Department certifies that this interim rule has been assessed regarding the environmental health risks and safety risks that may disproportionately affect children. This interim regulation was not found to have a negative affect on the health and safety of children.

Unfunded Mandates Reform Act of 1995 and Executive Order 13132

The Department has reviewed this interim rule in accordance with the requirements of Executive Order No. 13132, 64 FR 43225 (August 10, 1999) and the Unfunded Mandates Act of 1995, 2 U.S.C. 1501 et seq., and has found no potential or substantial direct effects on the States, on the relationship between the national government and the States, or on the distribution of power and responsibilities among the various levels of government. As there is no Federal mandate contained herein that could result in increased expenditures by State, local tribal governments or by the private sector, the department has not prepared a budgetary impact statement.

Executive Order 13175: Consultation and Coordination With Indian Tribal Governments

The Department has reviewed this interim rule in accordance with Executive Order 13175, 65 FR 67249 (Nov. 9, 2000), and has determined that it does not have “tribal implications.” The interim rule does not “have substantial direct effects on one or more Indian tribes, on the relationship between the Federal government and Indian Tribes, or on the distribution of power and responsibilities between the Federal government and Indian tribes.”

Executive Order 12630: Governmental Actions and Interference With Constitutionally Protected Property Rights

The Department has reviewed this interim rule in accordance with Executive Order 12630, 53 FR 8859 (Mar. 15, 1988) and has determined that it does not contain any “policies that have takings implications in regard to the licensing, permitting, or other condition requirements or limitations on private property use, or that require dedications or exactions from owners of private property.”

Executive Order 13211: Energy Supply, Distribution, or Use

The Department has reviewed this interim regulation and has determined that the provisions of Executive Order 13211, 66 FR 28355 (May 18, 2001), are not applicable as this is not a significant regulatory action and there are no direct or implied effects on energy supply, distribution, or use.

Clarity of This Regulation

Executive Order 12866, 58 FR 51735 (September 30, 1993), and the President's memorandum of June 1, 1998, require each agency to write all rules in plain language. The Department invites comments on how to make this interim rule easier to understand.

List of Subjects in 7 CFR Part 3430

Administrative practice and procedure, Agricultural research, Education, Extension, Federal assistance.

For the reasons discussed in the preamble, the Cooperative State Research, Education, and Extension Service is amending chapter XXXIV of title 7 of the Code of Federal Regulations to add part 3430 to read as follows:

PART 3430—COMPETITIVE AND NONCOMPETITIVE NON-FORMULA GRANT PROGRAMS—GENERAL GRANT ADMINISTRATION PROVISIONS

Subpart A—General Information
Sec.
3430.1 Applicability of regulations.
3430.2 Definitions.
3430.3 Deviations.
3430.4 Other applicable statutes and regulations.
Subpart B—Pre-Award: Solicitation and Application
3430.11 Competition.
3430.12 Requests for applications.
3430.13 Letter of intent to submit an application.
3430.14 Types of applications; types of grants instruments.
3430.15 Stakeholder input.
3430.16 Eligibility requirements.
3430.17 Content of an application.
3430.18 Submission of an application.
3430.19 Resubmission of an application.
3430.20 Acknowledgment of an application.
3430.21 Confidentiality of applications and awards.
Subpart C—Pre-Award: Application Review and Evaluation
3430.31 Guiding principles.
3430.32 Preliminary application review.
3430.33 Selection of reviewers.
3430.34 Evaluation criteria.
3430.35 Review of noncompetitive applications.
3430.36 Procedures to minimize or eliminate duplication of effort.
3430.37 Feedback to applicants.
Subpart D—Award
3430.41 Administration.
Subpart E—Post-Award and Closeout
3430.51 Payment.
3430.52 Cost sharing and matching.
3430.53 Program income.
3430.54 Technical reporting.
3430.55 Financial reporting.
3430.56 Project meetings.
3430.57 Hearings and appeals.
3430.58 Closeout procedures.
Research Programs
Subpart F—Specialty Crop Research Initiative
3430.200 Applicability of regulations.
3430.201 Purpose.
3430.202 Definitions.
3430.203 Eligibility.
3430.204 Project types and priorities.
3430.205 Funding restrictions.
3430.206 Matching requirements.

Authority: 7 U.S.C. 3316; Pub. L. 106-107 (31 U.S.C. 6101 note)

Subpart A—General Information

§ 3430.1 Applicability of regulations.

(a) This part provides agency specific regulations regarding the application for, evaluation, award, and post-award administration of Cooperative State Research, Education, and Extension Service (CSREES) awards, and are supplementary to the uniform assistance regulations at 7 CFR parts 3016 (State, local, and tribal governments), 3019 (institutions of higher education, hospitals, and nonprofits), and 3015 (all others), as applicable.

(b) Competitive programs. This part applies to all agricultural research, education, and extension competitive and related programs for which the Cooperative State Research, Education, and Extension Service (CSREES) has administrative or other authority, as well as any other Federal assistance program delegated to the CSREES administrator. In cases where regulations of this part conflict with existing regulations of CSREES in title 7 (i.e., 7 CFR parts 3400 through 3499) of the Code of Federal Regulations, regulations of this part shall supersede. This part does not apply to the Small Business Innovation Research (SBIR) Program.

(c) Noncompetitive programs. Subparts A, B, D, and E of this part, as well as § 3430.35, apply to all noncompetitive agricultural research, education, and extension programs administered by CSREES, as well as any other Federal assistance program delegated to the CSREES administrator.

(d) Grant programs administered on behalf of other agencies. Subparts A through E of this part, as appropriate, apply to competitive and noncompetitive grants administered on behalf of other agencies of the Federal government. Requirements specific to these grant programs will be included in the program solicitations or RFAs.

(e) Grant programs administered jointly with other agencies. Subparts A through E of this part, as appropriate, apply to competitive and noncompetitive grants administered jointly with other agencies of the Federal government. Requirements specific to these grant programs will be included in the appropriate program solicitations or RFAs published by both or either agency.

(f) Formula fund grants programs. This part does not apply to any of the formula grant programs administered by CSREES. Formula funds are the research funds provided to 1862 land-grant institutions and agricultural experiment stations under the Hatch Act of 1887 (7 U.S.C. 361a, et seq.); extension funds provided to 1862 land-grant institutions under sections 3(b) and 3(c)) of the Smith-Lever Act (7 U.S.C. 343(b) and (c)) and section 208(c) of the District of Columbia Public Postsecondary Education Reorganization Act, Public Law 93-471; agricultural extension and research funds provided to 1890 land-grant institutions under sections 1444 and 1445 of the National Agricultural Research, Extension, and Teaching Policy Act of 1977 (NARETPA) (7 U.S.C. 3221 and 3222); expanded food and nutrition education program funds authorized under section 3(d) of the Smith-Lever Act to the 1862 land-grant institutions and the 1890 land-grant institutions; extension funds under the Renewable Resources Extension Act for the 1862 land-grant institutions and the 1890 land-grant institutions; research funds provided to forestry schools under the McIntire-Stennis Cooperative Forestry Research Act of 1962 (16 U.S.C. 582a, et seq.); and animal health and disease research funds provided to veterinary schools and agricultural experiment stations under section 1433 of NARETPA (7 U.S.C. 3195).

§ 3430.2 Definitions.

As used in this part:

1862 Land-Grant Institution means an institution eligible to receive funds under the Act of July 2, 1862, as amended (7 U.S.C. 301 et seq.). Unless otherwise stated for a specific program, this term includes a research foundation maintained by such an institution.

1890 Land-Grant Institution means one of those institutions eligible to receive funds under the Act of August 30, 1890, as amended (7 U.S.C. 321 et seq.), including Tuskegee University and West Virginia State University. Unless otherwise stated for a specific program, this term includes a research foundation maintained by such an institution.

1994 Land-Grant Institution means one of those institutions as defined in section 532 of the Equity in Educational Land-Grant Status Act of 1994, as amended (7 U.S.C. 301 note). These institutions are commonly referred to as Tribal Colleges or Universities.

Administrator means the Administrator of the Cooperative State Research, Education, and Extension Service (CSREES) and any other officer or employee of the CSREES to whom the authority involved is delegated.

Advisory Board means the National Agricultural Research, Extension, Education, and Economics Advisory Board.

Agricultural research means research in the food and agricultural sciences.

Applied research means research that includes expansion of the findings of fundamental research to uncover practical ways in which new knowledge can be advanced to benefit individuals and society.

Authorized Departmental Officer or ADO means the Secretary or any employee of the Department with delegated authority to issue or modify grant instruments on behalf of the Secretary.

Authorized Representative or AR means the President or Chief Executive Officer of the applicant organization or the official, designated by the President or Chief Executive Officer of the applicant organization, who has the authority to commit the resources of the organization to the project.

Budget period means the interval of time (usually 12 months) into which the project period is divided for budgetary and reporting purposes.

Cash contributions means the recipient's cash outlay, including the outlay of money contributed to the recipient by non-Federal third parties.

Citizen or national of the United States means a citizen or native resident of a State; or, a person defined in the Immigration and Nationality Act, 8 U.S.C. 1101(a)(22), who, though not a citizen of the United States, owes permanent allegiance to the United States. When eligibility is claimed solely on the basis of permanent allegiance, documentary evidence from the Immigration and Naturalization Service as to such eligibility must be made available to CSREES upon request.

College or university means, unless defined in a separate subpart, an educational institution in any State which:

(1) Admits as regular students only persons having a certificate of graduation from a school providing secondary education, or the recognized equivalent of such a certificate;

(2) Is legally authorized within such State to provide a program of education beyond secondary education;

(3) Provides an educational program for which a bachelor's degree or any other higher degree is awarded;

(4) Is a public or other nonprofit institution; and

(5) Is accredited by a nationally recognized accrediting agency or association. Unless otherwise stated for a specific program, this term includes a research foundation maintained by such an institution.

Department means the United States Department of Agriculture.

Education activity or teaching activity means formal classroom instruction, laboratory instruction, and practicum experience in the food and agricultural sciences and other related matters such as faculty development, student recruitment and services, curriculum development, instructional materials and equipment, and innovative teaching methodologies.

Established and demonstrated capacity means that an organization has met the following criteria:

(1) Conducts any systematic study directed toward new or fuller knowledge and understanding of the subject studied; or,

(2) Systematically relates or applies the findings of research or scientific experimentation to the application of new approaches to problem solving, technologies, or management practices; and

(3) Has facilities, qualified personnel, independent funding, and prior projects and accomplishments in research or technology transfer.

Extension means informal education program conducted in the States in cooperation with the Unites States Department of Agriculture.

Extension activity means an act or process that delivers science-based knowledge and informal educational programs to people, enabling them to make practical decisions.

Food and agricultural sciences. The term “food and agricultural sciences” means basic, applied, and developmental research, extension, and teaching activities in food and fiber, agricultural, renewable natural resources, forestry, and physical and social sciences, including activities relating to the following:

(1) Animal health, production, and well-being.

(2) Plant health and production.

(3) Animal and plant germ plasm collection and preservation.

(4) Aquaculture.

(5) Food safety.

(6) Soil and water conservation and improvement.

(7) Forestry, horticulture, and range management.

(8) Nutritional sciences and promotion.

(9) Farm enhancement, including financial management, input efficiency, and profitability.

(10) Home economics.

(11) Rural human ecology.

(12) Youth development and agricultural education, including 4-H clubs.

(13) Expansion of domestic and international markets for agricultural commodities and products, including agricultural trade barrier identification and analysis.

(14) Information management and technology transfer related to agriculture.

(15) Biotechnology related to agriculture.

(16) The processing, distributing, marketing, and utilization of food and agricultural products.

Fundamental research means research that increases knowledge or understanding of the fundamental aspects of phenomena and has the potential for broad application, and has an effect on agriculture, food, nutrition, or the environment.

Graduate degree means a Master's or doctoral degree.

Grant means the award by the Authorized Departmental Officer of funds to an eligible grantee to assist in meeting the costs of conducting for the benefit of the public, an identified project which is intended and designed to accomplish the purpose of the program as identified in the program solicitation or RFA.

Grantee means the organization designated in the grant award document as the responsible legal entity to which a grant is awarded.

Insular area means the Commonwealth of Puerto Rico, Guam, American Samoa, the Commonwealth of the Northern Mariana Islands, the Federated States of Micronesia, the Republic of the Marshall Islands, the Republic of Palau, and the Virgin Islands of the United States.

Integrated means to incorporate two or three components of the agricultural knowledge system (research, education, and extension) around a problem area or activity.

Land-grant Institutions means the 1862 Land-Grant Institutions, 1890 Land-Grant Institutions, and 1994 Land-Grant Institutions.

Matching or cost sharing means that portion of allowable project or program costs not borne by the Federal Government, including the value of in-kind contributions.

Merit review means an evaluation of a proposed project or elements of a proposed program whereby the technical quality and relevance to regional or national goals are assessed.

Merit reviewers means peers and other individuals with expertise appropriate to conduct merit review of a proposed project.

Methodology means the project approach to be followed.

Mission-linked research means research on specifically identified agricultural problems which, through a continuum of efforts, provides information and technology that may be transferred to users and may relate to a product, practice, or process.

National laboratories include Federal laboratories that are government-owned contractor-operated or government-owned government-operated.

Peer reviewers means experts or consultants qualified by training and experience to give expert advice on the scientific and technical merit of grant applications or the relevance of those applications to one or more of the application evaluation criteria. Peer reviewers may be adhoc or convened as a panel.

Prior approval means written approval by an Authorized Departmental Officer evidencing prior consent.

Private research organization means any non-governmental corporation, partnership, proprietorship, trust, or other organization.

Private sector means all non-public entities, including for-profit and nonprofit commercial and non-commercial entities, and including private or independent educational associations.

Program Officer means a CSREES individual who is responsible for the technical oversight of the award on behalf of USDA.

Project means the particular activity within the scope of the program supported by a grant award.

Project Director or PD means the single individual designated by the grantee in the grant application and approved by the Authorized Departmental Officer who is responsible for the direction and management of the project, also known as a Principal Investigator (PI) for research activities.

Project period means the total length of time, as stated in the award document and modifications thereto, if any, during which Federal sponsorship begins and ends.

Research means any systematic study directed toward new or fuller knowledge and understanding of the subject studied.

Scientific peer review is an evaluation of the technical quality of a proposed project and its relevance to regional or national goals, performed by experts with the scientific knowledge and technical skills to conduct the proposed research work.

Secretary means the Secretary of Agriculture and any other officer or employee of the Department to whom the authority involved is delegated.

State means any one of the fifty States, the District of Columbia, and the insular areas.

Third party in-kind contributions means the value of non-cash contributions of property or services provided by non-Federal third parties, including real property, equipment, supplies and other expendable property, directly benefiting and specifically identifiable to a funded project or program.

United States means the several States, the District of Columbia, and the insular areas.

Units of State government means all State institutions, including the formal divisions of State government (i.e., the official state agencies such as departments of transportation and education), local government agencies (e.g., a county human services office), and including state educational institutions (e.g., public colleges and universities).

§ 3430.3 Deviations.

Any request by the applicant or grantee for a waiver or deviation from any provision of this part shall be submitted to the ADO identified in the agency specific requirements. CSREES shall review the request and notify the applicant/grantee whether the request to deviate has been approved within 30 calendar days from the date of receipt of the deviation request. If the deviation request is still under consideration at the end of 30 calendar days, CSREES shall inform the applicant/grantee in writing of the date when the applicant/grantee may expect the decision.

§ 3430.4 Other applicable statutes and regulations.

Several Federal statutes and regulations apply to grant applications considered for review and to project grants awarded under CSREES grant programs. These include, but are not limited to:

7 CFR Part 1, subpart A—USDA implementation of the Freedom of Information Act.

7 CFR Part 3—USDA implementation of OMB Circular No. A-129, regarding debt management.

7 CFR Part 15, subpart A—USDA implementation of Title VI of the Civil Rights Act of 1964, as amended.

7 CFR Part 331 and 9 CFR Part 121—USDA implementation of the Agricultural Bioterrorism Protection Act of 2002.

7 CFR Part 3015—USDA Uniform Federal Assistance Regulations, implementing OMB directives (i.e., OMB Circular Nos. A-21 and A-122, now codified at 2 CFR Parts 220) and incorporating provisions of 31 U.S.C. 6301-6308 (formerly the Federal Grant and Cooperative Agreement Act of 1977, Pub. L. 95-224), as well as general policy requirements applicable to grantees of Departmental financial assistance.

7 CFR Part 3017—USDA implementation of Governmentwide Debarment and Suspension (Nonprocurement) and Governmentwide Requirements for Drug Free Workplace (Grants).

7 CFR Part 3018—USDA implementation of Restrictions on Lobbying. Imposes prohibitions and requirements for disclosure and certification related to lobbying on grantees of Federal contracts, grants, cooperative agreements, and loans.

7 CFR Part 3019—USDA implementation of OMB Circular No. A-110, Uniform Administrative Requirements for Grants and Other Agreements with Institutions of Higher Education, Hospitals, and Other Nonprofit Organizations.

7 CFR Part 3052—USDA implementation of OMB Circular No. A-133, Audits of States, Local Governments, and Nonprofit Organizations.

7 CFR Part 3407—CSREES procedures to implement the National Environmental Policy Act of 1969, as amended. 29 U.S.C. 794 (section 504, Rehabilitation Act of 1973) and

7 CFR Part 15b (USDA implementation of statute)—prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR Part 401).

Subpart B—Pre-Award: Solicitation and Application

§ 3430.11 Competition.

(a) Standards for competition. Except as provided in paragraph (b) of this section, CSREES will enter into grants and cooperative agreements, unless restricted by statute, only after competition.

(b) The CSREES ADO and the Agency approving official may make a determination in writing that competition is not deemed appropriate for a particular transaction. Such determination shall be limited to transactions where it can be adequately justified that a noncompetitive award is in the best interest of the Federal government and necessary to the goals of the program.

§ 3430.12 Requests for applications.

(a) For each competitive and noncompetitive non-formula program, CSREES will prepare a program solicitation (also called a request for applications (RFA); hereafter referred to as RFA in accordance with the OMB policy directive, 68 FR 37370-37379 (June 23, 2003), establishing a standard format for Federal agency announcements (i.e., program solicitations or RFAs) of funding opportunities under programs that award discretionary grants or cooperative agreements. This policy directive requires the content of the RFA to be organized in a sequential manner beginning with overview information followed by the full text of the announcement and will apply unless superseded by statute or another OMB policy directive. The RFA may include all or a portion of the following items:

(1) Contact information;

(2) Directions for interested beneficiaries to submit written comments in a published program solicitation or RFA;

(3) CFDA number;

(4) Legislative authority and background information;

(5) Purpose, priorities, and fund availability;

(6) Program-specific eligibility requirements;

(7) Program-specific restrictions on the use of funds, if applicable;

(8) Matching requirements, if applicable;

(9) Acceptable types of applications;

(10) Types of projects to be given priority consideration, including maximum anticipated awards and maximum project lengths, if applicable;

(11) Program areas, if applicable;

(12) Funding restrictions, if applicable;

(13) Directions for obtaining additional requests for applications and application forms;

(14) Information about how to obtain application forms and the instructions for completing such forms;

(15) Instructions and requirements for submitting applications, including submission deadline(s);

(16) Explanation of the application revaluation process; and

(17) Specific evaluation criteria used in the review process.

(b) Where program-specific requirements differ from the requirements established in this part, program solicitations will also address any such variation(s). Variations may occur in the following:

(1) Award management guidelines;

(2) Restrictions on the delegation of fiscal responsibility;

(3) Required approval for changes to project plans;

(4) Expected program outputs and reporting requirements, if applicable;

(5) Applicable Federal statutes and regulations;

(6) Confidential aspects of applications and awards, if applicable;

(7) Regulatory information; and

(8) Definitions.

§ 3430.13 Letter of intent to submit an application.

CSREES may request or require that prospective applicants notify program staff of their intent to submit an application identified as “letter of intent”. If applicable, the request or requirement will be included in the RFA, along with directions for the preparation and submission of the letter of intent and any relevant deadlines. Entities interested in submitting an application for a CSREES grant should complete and submit a “Letter of Intent to Submit an Application” form by the due date specified in the RFA. This form does not obligate the applicant in any way, but will provide useful information to CSREES in preparing for application review. Applicants that do not submit a letter of intent by the specified due date are still allowed to submit a grant application by the application due date specified in the RFA, unless otherwise specified in the RFA.

§ 3430.14 Types of applications; types of grant instruments.

(a) Types of applications. The type of application acceptable may vary by funding opportunity. The RFA will stipulate the type of application that may be submitted to CSREES in response to the funding opportunity. Applicants may submit the following types of applications as specified in the RFA.

(1) New. An application that is being submitted to CSREES for the first time.

(2) Resubmission. This is a project application that had been submitted for consideration under the same program previously but has not been approved for an award under the program. For competitive programs, this type of application is evaluated, in competition with other pending applications in the area to which it is assigned. Resubmissions are reviewed according to the same evaluation criteria as new applications. In addition, applicants must respond to previous panel review summary, unless waived by CSREES.

(3) Renewal. An application requesting additional funding for a period subsequent to that provided by a current award. A renewal application competes with all other applications and must be developed as fully as though the applicant is applying for the first time. Renewal applicants also must have filed a progress report via CRIS, unless waived by CSREES.

(4) Continuation. A noncompeting application for an additional funding/budget period within a previously approved project period.

(5) Revision. An application that proposes a change in the Federal Government's financial obligations or contingent liability from an existing obligation; or, any other change in the terms and conditions of the existing award.

(6) Resubmitted renewal. This is a project application that has been submitted for consideration under the same program previously. This type of application has also been submitted for renewal under the same program but was not approved. For competitive programs, this type of application is evaluated, in competition with other pending applications in the area to which it is assigned. Resubmitted renewal applications are reviewed according to the same evaluation criteria as new applications. Applicants must respond to previous panel review summary and file a progress report via CRIS, unless waived by CSREES.

(b) Types of grant instruments. The following is a list of corresponding categories of grant instruments issued by CSREES.

(1) Standard. This is a grant instrument by which the CSREES agrees to support a specified level of effort for a predetermined project period without the announced intention of providing additional support at a future date.

(2) Renewal. This is an instrument by which the CSREES agrees to provide additional funding under a standard grant as specified in paragraph (b)(1) of this section for a project period beyond that approved in an original or amended award, provided that the cumulative period does not exceed any statutory time limitation of the award.

(3) Continuation. This is a grant instrument by which the CSREES agrees to support a specified level of effort for a predetermined period of time with a statement of intention to provide additional support at a future date, provided that performance has been satisfactory, appropriations are available for this purpose, and continued support would be in the best interest of the Federal government and the public.

(4) Supplemental. This is an instrument by which the CSREES agrees to provide small amounts of additional funding under a standard, renewal, or continuation grant as specified in paragraphs (b)(1), (b)(2), and (b)(3) of this section and may involve a short-term (usually six months or less) extension of the project period beyond that approved in an original or amended award, but in no case may the cumulative period of the project, including short term extensions, exceed any statutory time limitation of the award.

(c) Obligation of the Federal government. Neither the acceptance of any application nor the award of any project grant shall commit or obligate the United States in any way to make any renewal, supplemental, continuation or other award with respect to any approved application or portion of an approved application.

§ 3430.15 Stakeholder input.

Section 103 (c)(2) of the Agricultural Research, Extension, and Education Reform Act of 1998 (AREERA) (7 U.S.C. 7613(c)(2)) requires the Secretary to solicit and consider input on each program RFA from persons who conduct agricultural research, education, and extension for use in formulating future RFAs for competitive programs. CSREES will provide instructions for submission of stakeholder input in the RFA. CSREES will consider any comments received within the specified timeframe in the development of the future RFAs for the program.

§ 3430.16 Eligibility requirements.

Program-specific eligibility requirements appear in the subpart applicable to each program and in the RFAs. In addition to program-specific eligibility requirements, grants will be awarded only to responsible applicants. Specific management information relating to an applicant shall be submitted on a one-time basis, with updates on an as-needed basis, as part of the responsibility determination prior to award of a grant identified under a specific CSREES program, if such information has not been provided previously under this or another CSREES program. CSREES will provide copies of forms recommended for use in fulfilling these requirements as part of the preaward process. Although an applicant may be eligible based on its status as one of these entities, there are factors which may exclude an applicant from receiving Federal financial and nonfinancial assistance and benefits under a CSREES program (e.g., debarment or suspension of an individual involved or a determination that an applicant is not responsible based on submitted organizational management information).

§ 3430.17 Content of an application.

The RFA provides instructions about how to access a funding opportunity. The funding opportunity contains the application package, which includes the forms necessary for completion of an application in response to the RFA, as well as the application instructions. The application instructions document, “A Guide for the Preparation and Submission of CSREES Applications via Grants.gov,” is intended to assist applicants in the preparation and submission of applications to CSREES. It is also the primary document for use in the preparation of CSREES applications via Grants.gov.

§ 3430.18 Submission of an application.

(a) When to submit. The RFA will provide deadlines for the submission of letters of intent, if requested and required, and applications. CSREES may issue separate RFAs and/or establish separate deadlines for different types of applications, different grant instruments, different topics or phases of the grant programs. If applications are not received by applicable deadlines, they will not be considered for funding. Exceptions will only be considered when extenuating circumstances exist and justification and supporting documentation are provided to CSREES.

(b) What to submit. The contents of the applicable application package, as well as any other information, is to be submitted by the due date.

(c) Where to submit. The RFA will provide addresses for submission of letters of intent, if requested or required. It will also indicate permissible methods of submission (i.e., electronic, e-mail, hand-delivery, U.S. Postal Service, courier). Conformance with preparation and submission instructions is required and will be strictly enforced unless a deviation had been approved in advance of application submission. CSREES may establish additional requirements. CSREES may return without review applications that are not consistent with the RFA instructions.

§ 3430.19 Resubmission of an application.

(a) Previously unfunded applications. (1) Applications that are resubmitted to a program, after being previously submitted but not funded by that program, must include the following information:

(i) The CSREES-assigned proposal number of the previously submitted application;

(ii) Summary of the previous reviewers' comments; and

(iii) Explanation of how the previous reviewers' comments or previous panel summary have been addressed in the current application.

(2) Resubmitting an application that has been revised based on previous reviewers' critiques does not guarantee the application will be recommended for funding.

(b) Previously funded applications. (1) CSREES competitive programs are generally not designed to support multiple grant awards activities that are essentially repetitive in nature. PDs who have had their projects funded previously are discouraged from resubmitting relatively identical applications for further funding. Applications that are sequential continuations or new stages of previously funded projects must compete with first-time applications, and should thoroughly demonstrate how the proposed project expands substantially on previously funded efforts and promotes innovation and creativity beyond the scope of the previously funded project.

(2) An application may be submitted only once to CSREES. The submission of duplicative or substantially similar applications concurrently for review by more than one program will result in the exclusion of the redundant applications from CSREES consideration.

§ 3430.20 Acknowledgment of an application.

The receipt of all letters of intent and applications will be acknowledged by CSREES. Applicants who do not receive an acknowledgement within a certain number of days (as established in the RFA, e.g., 30 and 60 days) of the submission deadline should contact the program contact. Once the application has been assigned a proposal number by CSREES, that number should be cited on all future correspondence.

§ 3430.21 Confidentiality of applications and awards.

(a) Names of submitting institutions and individuals, as well as application content and evaluations, will be kept confidential, except to those involved in the review process, to the extent permissible by law.

(b) If an application contains proprietary information that constitutes a trade secret, proprietary commercial or financial information, confidential personal information, or data affecting the national security, it will be treated in confidence to the extent permitted by law, provided the information is clearly marked by the proposer with the term “confidential and proprietary information” and provided at the bottom of the project narrative or any other attachment included in the application that contains such information: “The following pages (specify) contain proprietary information which (name of proposing organization) requests not to be released to persons outside the Government, except for purposes of evaluation.”

(c) By law, USDA is required to make the final decisions as to whether the information is required to be kept in confidence. Information contained in unsuccessful applications will remain the property of the proposer. However, USDA will retain for three years one file copy of each application received; extra copies will be destroyed. Public release of information from any application submitted will be subject to existing legal requirements. Any application that is funded will be considered an integral part of the award and normally will be made available to the public upon request, except for designated proprietary information that is determined by USDA to be proprietary information.

(d) The inclusion of proprietary information is discouraged unless it is necessary for the proper evaluation of the application. If proprietary information is to be included, it should be limited, set apart from other text on a separate page, and keyed to the text by numbers. It should be confined to a few critical technical items that, if disclosed, could jeopardize the obtaining of foreign or domestic patents. Trade secrets, salaries, or other information that could jeopardize commercial competitiveness should be similarly keyed and presented on a separate page. Applications or reports which attempt to restrict dissemination of large amounts of information may be found unacceptable by USDA and constitute grounds for return of the application without further consideration. Without assuming any liability for inadvertent disclosure, USDA will limit dissemination of such information to its employees and, where necessary for the evaluation of the application, to outside reviewers on a confidential basis. An application may be withdrawn at any time prior to the final action thereon.

Subpart C—Pre-Award: Application Review and Evaluation

§ 3430.31 Guiding principles.

The guiding principle for grant application review and evaluation is to ensure that each proposal is treated in a consistent and fair manner regardless of regional and institutional affiliation. After the evaluation process by the review panel, the CSREES through the program officer ensures that applicants receive appropriate feedback and comments on their proposals, and processes the awards in as timely a manner as possible.

§ 3430.32 Preliminary application review.

Prior to technical examination, a preliminary review will be made of all applications for responsiveness to the administrative requirements set forth in the RFA. Applications that do not meet the administrative requirements may be eliminated from program competition. However, USDA retains the right to conduct discussions with applicants to resolve technical and/or budget issues, as deemed necessary by USDA.

§ 3430.33 Selection of reviewers.

(a) Requirement. CSREES is responsible for performing a review of applications submitted to CSREES competitive award programs in accordance with section 103(a) of the Agricultural Research, Extension, and Education Reform Act of 1998 (7 U.S.C. 7613(a)). Reviews are undertaken to ensure that projects supported by CSREES are of high quality and are consistent with the goals and requirements of the funding program. Applications submitted to CSREES undergo a programmatic evaluation to determine the worthiness of Federal support. The evaluations consist of a peer panel review and also may entail an assessment by Federal employees and ad hoc reviewers.

(b) CSREES Peer Review System. The CSREES Application Review Process is accomplished through the use of the CSREES Peer Review System (PRS), a web-based system which allows reviewers and potential reviewers to update personal information and to complete and submit reviews electronically to CSREES.

(c) Relevant training and experience. Reviewers will be selected based upon training and experience in relevant scientific, extension, or education fields taking into account the following factors:

(1) Level of relevant formal scientific, technical education, and extension experience of the individual, as well as the extent to which an individual is engaged in relevant research, education, or extension activities;

(2) Need to include as reviewers experts from various areas of specialization within relevant scientific, education, and extension fields;

(3) Need to include as reviewers other experts (e.g., producers, range or forest managers/operators, and consumers) who can assess relevance of the applications to targeted audiences and to program needs;

(4) Need to include as reviewers experts from a variety of organizational types (e.g., colleges, universities, industry, state and Federal agencies, private profit and nonprofit organizations) and geographic locations;

(5) Need to maintain a balanced composition of reviewers with regard to minority and female representation and an equitable age distribution; and

(6) Need to include reviewers who can judge the effective usefulness to producers and the general public of each application.

(d) Confidentiality. The identities of reviewers will remain confidential to the maximum extent possible. Therefore, the names of reviewers will not be released to applicants. If it is possible to reveal the names of reviewers in such a way that they cannot be identified with the review of any particular application, this will be done at the end of the fiscal year or as requested. Names of submitting institutions and individuals, as well as application content and peer evaluations, will be kept confidential, except to those involved in the review process, to the extent permitted by law. Reviewers are expected to be in compliance with CSREES Confidentiality Guidelines. Reviewers provide this assurance through PRS.

(e) Conflicts of interest. During the evaluation process, extreme care will be taken to prevent any actual or perceived conflicts of interest that may impact review or evaluation. For the purpose of determining conflicts of interest, the academic and administrative autonomy of an institution shall be determined. Reviewers are expected to be in compliance with CSREES Conflict-of-interest Guidelines. Reviewers provide this assurance through PRS.

§ 3430.34 Evaluation criteria.

(a) To ensure any project receiving funds from CSREES is consistent with the broad goals of the funding program, the content of each proposal/application submitted to CSREES will be evaluated based on a pre-determined set of review criteria. It is the responsibility of the Program Officer to develop, adopt, adapt, or otherwise establish the criteria by which proposals are to be evaluated. It may be appropriate for the Program Officer to involve other scientists or stakeholders in the development of criteria, or to extract criteria from legislative authority or appropriations language. The review criteria is described in the RFA and shall not include criteria concerning any cost sharing or matching requirements per section 7301 of the Food, Conservation, and Energy Act of 2008.

(b) In order that all potential applicants for a program have similar opportunities to compete for funds, all reviewers will receive from the Program Officer a description of the review criteria. Reviewers are instructed to use those same evaluation criteria, and only those criteria, to judge the merit of the proposals they review.

§ 3430.35 Review of noncompetitive applications.

(a) Some projects are directed by either authorizing legislation and/or appropriations to specifically support a designated institution or set of institutions for particular research, education or extension topics of importance to the nation, a State or a region. Although these projects may be awarded noncompetitively, these projects or activities are subject to the same application process, award terms and conditions, Federal assistance laws and regulations, reporting and monitoring requirements, and post-award administration and closeout policies and procedures as competitive grant programs. The only difference is these applications are not subject to a competitive peer review process at the Agency level.

(b) All noncompetitive applications recommended for funding are required to be merit reviewed and the merit review documented by the CSREES program official. For awards recommended for funding at or greater than $10,000, an independent and unit merit review are required.

§ 3430.36 Procedures to minimize or eliminate duplication of effort.

CSREES may implement appropriate business processes to minimize or eliminate the awarding of CSREES grants that unnecessarily duplicate activities already being sponsored under other grant awards, including awards made by other Federal agencies. Business processes may include the review of the Current and Pending Support Form; documented CRIS searches prior to award; the conduct of project director (PD) workshops, conferences, meetings, and symposia; and agency participation in Federal government-wide and other committees, taskforces, or groups that seek to solve problems related to agricultural research, education, and extension and other activities delegated to the CSREES administrator.

§ 3430.37 Feedback to applicants.

Copies of individual reviews and/or summary reviews, not including the identity of reviewers, will be sent to the applicant PDs after the review process has been completed.

Subpart D—Award

§ 3430.41 Administration.

(a) General. Within the limit of funds available for such purpose, the CSREES ADO shall make grants to those responsible, eligible applicants whose applications are judged most meritorious under the procedures set forth in the RFA. The date specified by the CSREES ADO as the effective date of the grant shall be no later than September 30 of the Federal fiscal year in which the project is approved for support and funds are appropriated for such purpose, unless otherwise permitted by law. It should be noted that the project need not be initiated on the grant effective date, but as soon thereafter as practical so that project goals may be attained within the funded project period. All funds granted by CSREES shall be expended solely for the purpose for which the funds are granted in accordance with the approved application and budget, the regulations, the terms and conditions of the award, the applicable Federal cost principles, and the Department's assistance regulations (7 CFR parts 3015 and 3019).

(b) Organizational management information. Specific management information relating to an applicant shall be submitted on a one-time basis as part of the responsibility determination prior to the award of a grant, if such information has not been provided previously to CSREES. CSREES will provide copies of forms recommended for use in fulfilling these requirements as part of the preaward process.

(c) Notice of Award. The notice of award document (i.e., Form CSREES-2009, Award Face Sheet) will provide pertinent instructions and information including, at a minimum, the following:

(1) Legal name and address of performing organization or institution to whom the Administrator has awarded a grant;

(2) Title of project;

(3) Name(s) and institution(s) of Project Director(s);

(4) Identifying award number assigned by CSREES or the Department;

(5) Project period;

(6) Total amount of CSREES financial assistance approved;

(7) Legal authority(ies) under which the grant is awarded;

(8) Appropriate CFDA number;

(9) Approved budget plan or referenced thereof; and

(10) Other information or provisions (including the Terms and Conditions) deemed necessary by CSREES to carry out its respective granting activities or to accomplish the purpose of a particular grant.

(d) Other terms and conditions. CSREES may, with respect to any grant, impose additional conditions prior to or at the time of any award when, in the CSREES' judgment, such conditions are necessary to assure or protect advancement of the approved project, the interests of the public, or the conservation of grant funds.

Subpart E—Post-Award and Closeout

§ 3430.51 Payment.

(a) All payments will be made in advance unless a deviation is accepted (see § 3430.3) or as specified in paragraph (b) of this section. All payments to the grantee shall be made via the U.S. Department of Health and Human Services' Payment Management System (DHHS-PMS) or another electronic funds transfer (EFT) method except for awards to other Federal agencies. Grantees are expected to request funds via DHHS-PMS for reimbursement basis in a timely manner.

(b) If CSREES has determined that advance payment is not feasible and that the grantee does not maintain or demonstrate the willingness to maintain: Written procedures that minimize the time elapsing between the transfer of funds and disbursement by the grantee, and financial management systems that meet the standards for fund control and accountability as established in § 3430.61; CSREES shall use the reimbursement method.

§ 3430.52 Cost sharing and matching.

(a) General. Grantees may be required to match the Federal funds received under a CSREES grant. The required percentage of matching, type of matching (e.g., cash and/or in-kind contributions), sources of match (e.g., non-Federal), and whether CSREES has any authority to waive the match will be specified in the subpart applicable to the specific grant program, as well as in the RFA.

(b) Indirect Costs. Grantees' matching contribution may also include unrecoverable indirect costs. Such costs may be accepted as part of the grantee's resource contribution provided the total amount of indirect cost claimed under the Federal and non-Federal portions of the costs, when combined, do not exceed the applicant's negotiated indirect cost rate or if applicable, the statutory cap on indirect costs. Indirect costs provisions for each specific grant program are identified in the “Funding restrictions” section of the subpart for each individual grant program.

§ 3430.53 Program income.

(a) CSREES shall apply the standards set forth in this section in requiring grantee organizations to account for program income related to projects financed in whole or in part with Federal funds.

(b) Unless otherwise provided in the authorizing statute, program income earned during the project period shall be retained by the grantee and, in accordance with the terms and conditions of the award, shall be added to funds committed to the project by CSREES and grantee and used to further eligible project or program objectives. Any specific program deviations will be identified in the individual subparts.

(c) Unless the program regulations identified in the individual subpart provide otherwise, grantees shall follow the terms and conditions of the award.

§ 3430.54 Technical reporting.

(a) Requirement. All projects supported with Federal funds under this part must be documented in the Current Research Information System (CRIS).

(b) Initial Documentation in the CRIS Database. Information collected in the “Work Unit Description” (Form AD-416) and “Work Unit Classification” (Form AD-417) is required upon project initiation for all new awards in CRIS (i.e., prior to award).

(c) Annual CRIS Reports. Unless stated differently in the grant terms and conditions, an annual “Accomplishments Report” (Form AD-421) is due 90 calendar days after the award's anniversary date (i.e., one year following the month and day of which the project period begins and each year thereafter up until a final report is required). An annual report covers a one-year period. In addition to the Form AD-421, the following information, when applicable, must be submitted to the programmatic contact person identified in block 4 of the Award Face Sheet (Form CSREES-2009): A comparison of actual accomplishments with the goals established for the reporting period (where the output of the project can be expressed readily in numbers, a computation of the cost per unit of output should be considered if the information is considered useful); the reasons for slippage if established goals were not met; and additional pertinent information including, when appropriate, analysis and explanation of cost overruns or unexpectedly high unit costs. The annual report of “Funding and Staff Support” (Form AD-419) is due February 1 of the year subsequent to the Federal fiscal year being reported.

(d) CRIS Final Report. The CRIS final report, “Accomplishments Report” (Form AD-421), covers the entire period of performance of the award. The report should encompass progress made during the entire timeframe of the project instead of covering accomplishments made only during the final reporting segment of the project. In addition to providing the information required under paragraph (c) of this section, the final report must include the following when applicable: A disclosure of any inventions not previously reported that were conceived or first actually reduced to practice during the performance of the work under the award; a written statement on whether or not the awardee elects (or plans to elect) to obtain patent(s) on any such invention; and identify equipment purchased with any Federal funds under the award and indicate subsequent use of such equipment.

(e) CRIS Web Site Via Internet. The CRIS database is available to the public on the World Wide Web. CRIS project information is available via the Internet CRIS Web site at http://cris.csrees.usda.gov. To submit forms electronically, the CRIS forms Web site can be accessed through the CRIS Web site or accessed directly at http://csf.uvm.edu/cris.

(f) Grantees may be required to submit other technical reports or submit the CRIS reports more frequently than annual. Additional requirements for a specific grant program are described in the applicable subpart after subpart F and are identified in the RFA. The Award Face Sheet (Form CSREES-2009) also will specify these additional reporting requirements.

§ 3430.55 Financial reporting.

(a) SF-269, Financial Status Report. Unless stated differently in the grant terms and conditions, a SF-269, Financial Status Report, is due 90 days after the expiration of the grant and should be submitted to the Awards Management Branch (AMB) at Awards Management Branch; Office of Extramural Programs, CSREES; U.S. Department of Agriculture; STOP 2271; 1400 Independence Avenue, SW.; Washington, DC 20250-2271. The awardee shall report program outlays and program income on the same accounting basis (i.e., cash or accrual) that it uses in its normal accounting system. When submitting a final SF-269, Financial Status Report, the total matching contribution, if required, should be shown in item 12., Remarks. The final SF-269 must not show any unliquidated obligations. If the awardee still has valid obligations that remain unpaid when the report is due, it shall submit a provisional report (showing the unliquidated obligations) by the due date and a final report when all obligations have been liquidated. When submitting a provisional report, the awardee shall inform AMB when it expects a final report. If AMB waives the requirement for provisional reports, the grantee will be so notified. SF-269, Financial Status Reports, must be submitted by all grantees, including Federal agencies and national laboratories.

(b) Grants with Required Matching. For grants requiring a matching contribution, an annual SF-269, Financial Status Report, is required and this requirement will be indicated on the Award Face Sheet, Form CSREES-2009, in which case it must be submitted no later than 90 days following the end of the Federal fiscal year, September 30th.

(c) Overdue SF-269, Financial Status Reports. Grantees with overdue SF-269, Financial Status Reports, or other required financial report (as identified in the grant terms and conditions), will have their applicable balances at DHHS-PMS restricted or placed on “manual review,” which restricts the grantee's ability to draw funds thus requiring prior approval from CSREES. If any remaining available balances are needed by the grantee, the grantee will be required to contact AMB to request permission to draw any additional funds and may be required to provide documentation to support the draw.

(d) SF-272, Federal Cash Transactions Report. Grantees (receiving electronic payments through DHHS-PMS) are required to submit their SF-272, Federal Cash Transactions Report, via the DHHS-PMS by the specified dates. Failure to submit this quarterly report by the due date may result in funds being restricted by DHHS-PMS. Grantees (not receiving payments through DHHS-PMS) may be exempt from this reporting requirement.

(e) Additional reporting requirements. CSREES may require additional financial reporting requirements as follows: CSREES may require forecasts of Federal cash requirements in the “Remarks” section of the report; and when practical and deemed necessary, CSREES may require grantees to report in the “Remarks” section the amount of cash advances received in excess of three days (i.e., short narrative with explanations of actions taken to reduce the excess balances). When CSREES needs additional information or more frequent reports, the following will be observed: When additional information is needed to comply with legislative requirements, CSREES will issue instructions to require grantees to submit such information under the “Remarks” section of the reports; and CSREES determines that a grantee's accounting system is inadequate, additional pertinent information to further monitor awards may be obtained upon written notice to the grantee until such time as the system is brought up to standard. CSREES, in obtaining this information, shall comply with the PRA clearance requirements and the implementing regulations codified at 5 CFR part 1320.

§ 3430.56 Project meetings.

In addition to reviewing (and monitoring the status of) progress and final technical reports and financial reports, CSREES program officers may use regular and periodic conference calls to monitor the grantee's performance as well as PD conferences, workshops, meetings, and symposia to not only monitor the grants, but to facilitate communication and the sharing of project results. These opportunities also serve to eliminate or minimize CSREES funding unneeded duplicative project activities. Required attendance at these conference calls, conferences, workshops, meetings, and symposia will be identified in the RFA and the grantee should develop a proposal accordingly.

§ 3430.57 Hearings and appeals.

(a) Scope of the post-award disputes covered. The disputes covered by this section include: Cost disallowances pursuant to the ADO's decision (e.g., specific disallowances under an individual grant or as the result of an audit report); termination orders; and the final settlement amount under a termination.

(b) Procedures. The grantee should submit a letter to the ADO from the applicant's AR, via mail, e-mail, or fax, noting the grantee's dispute and identifying the Grants Officer's decision in question, giving reasons for a request to review and providing any other material pertinent to the request. The letter to the ADO must be dated no later than 60 days after the date of the letter notifying the grantee of the decision in question. CSREES retains the right to consider requests for review after the 60-day period in extenuating circumstances. The ADO will review or designate an individual to review the request. A report will be prepared with a recommendation within 60 days and forwarded to the Deputy Administrator, Office of Extramural Programs for disposition.

§ 3430.58 Closeout.

Most CSREES awards are supported with annual appropriations. On September 30th of the 5th fiscal year after the period of availability for obligation, the funds for these appropriations accounts expire per 31 U.S.C. 1552 and the account is closed. Funds that have not been drawn through DHHS-PMS by the grantee or disbursed through any other system or method by August 31st (of the fifth year appropriation) are subject to be returned to the U.S. Department of Treasury after that date. Please note that the August 31st requirement also applies to awards with a 90-day period concluding on a date after September 30th of that following fifth year. Please note expired appropriations cannot be restored after this date. More specific instructions are provided in the CSREES award terms and conditions.

Research Programs

Subpart F—Specialty Crop Research Initiative

§ 3430.200 Applicability of regulations.

The regulations in this subpart apply to the program authorized under section 412 of the Agricultural Research, Extension, and Education Reform Act of 1998 (7 U.S.C. 7621 et seq.).

§ 3430.201 Purpose.

The purpose of this program is to address the critical needs of the specialty crop industry by developing and disseminating science-based tools to address needs of specific crops and their regions, including: Research in plant breeding, genetics, and genomics to improve crop characteristics, such as product, taste, quality, and appearance; environmental responses and tolerances; nutrient management, including plant nutrient uptake efficiency; pest and disease management, including resistance to pests and diseases resulting in reduced application management strategies; and enhanced phytonutrient content; efforts to identify and address threats from pests and diseases, including threats to specialty crop pollinators; efforts to improve production efficiency, productivity, and profitability over the long term (including specialty crop policy and marketing); new innovations and technology, including improved mechanization and technologies that delay or inhibit ripening; and methods to prevent, detect, monitor, control, and respond to potential food safety hazards in the production and processing of specialty crops, including fresh produce. CSREES will award research and extension, including integrated grants to eligible institutions listed in § 3430.203. In addition to the focus areas defined in this section, CSREES may include additional activities or focus areas that will further address the critical needs of the specialty crop industry. Some of these activities or focus areas may be identified by stakeholder groups or by USDA in response to emerging critical needs of the specialty crop industry.

§ 3430.202 Definitions.

The definitions applicable to the program under this subpart include:

Integrated means for the purposes of this program to incorporate the research and extension components of the agricultural knowledge system around a problem area or activity.

Specialty crop means fruits and vegetables, tree nuts, dried fruits, and horticulture and nursery crops (including floriculture).

§ 3430.203 Eligibility.

Eligible applicants for the grant program implemented under this subpart include: Federal agencies; national laboratories; colleges and universities; research institutions and organizations; private organizations or corporations; State agricultural experiment stations; individuals; and groups consisting of 2 or more entities identified in this sentence. To be eligible under this part, individuals must be a citizen or national of the United States as defined in § 3430.2 of this part. Eligible institutions do not include foreign and international organizations, unless otherwise provided in the RFA.

§ 3430.204 Project types and priorities.

For each RFA, CSREES may develop and include the appropriate project types and focus areas (in addition to the five activities or focus areas identified in 3430.201) based on the critical needs of the specialty crop industry as identified through stakeholder input and deemed appropriate by CSREES. Of the funds made available each fiscal year, not less than 10 percent of these funds shall be allocated for each activity or focus area identified in § 3430.201. In making awards for this program, USDA will give higher priority to projects that are multistate, multi-institutional, and multidisciplinary; and include explicit mechanisms to communicate the results to producers and the public.

§ 3430.205 Funding restrictions.

Funds made available under this subpart shall not be used for the construction of a new building or facility or the acquisition, expansion, remodeling, or alteration of an existing facility (including site grading and improvement, and architect fees). Indirect costs are subject to NARETPA section 1462(a) limiting indirect costs to 22 percent of the total Federal funds provided under each award unless superseded by another authority. The maximum allowed indirect cost of 22 percent may be claimed under the Federal portion of the award budget, or the maximum allowed indirect cost of 22 percent may be claimed as a matching contribution (if no indirect costs are requested on the Federal portion of the budget). However, the maximum allowed indirect cost of 22 percent may not be claimed on both the Federal portion of the budget for the award and as a matching contribution; but a grantee may, for example, request 11 percent of indirect costs on both the Federal portion of the budget for the award and as a matching contribution. Or, a grantee may request any other, similar percentage combination that, when combined, does not exceed a maximum indirect cost rate of 22 percent.

§ 3430.206 Matching requirements.

Grantees are required to provide funds or in-kind support from non-Federal sources in an amount that is at least equal to the amount provided by the Federal government. The matching contribution must be provided from non-Federal sources except when authorized by statute. The matching requirements under this subpart cannot be waived.

Signed at Washington, DC, on July 28, 2008.
Colien Hefferan,
Administrator, Cooperative State Research, Education, and Extension Service.

[FR Doc. E8-17594 Filed 7-31-08; 8:45 am]

BILLING CODE 3410-22-P